DEPARTMENT OF THE INTERIOR

National Park Service

Environmental Statements; Notice of Intent

AGENCY: National Park Service, Interior.

ACTION: Notice of intent to prepare a general management plan and environmental impact statement for Fallen Timbers Battlefield and Fort Miamis National Historic Site, Ohio.

SUMMARY: The National Park Service (NPS) will prepare a general management plan (GMP) and an associated environmental impact statement (EIS) for Fallen Timbers Battlefield and Fort Miamis National Historic Site in accordance with section 102(2)(C) of the National Environmental Policy Act of 1969 (NEPA). This notice is being furnished as required by NEPA Regulations 40 CFR 1501.7.

To facilitate sound planning and environmental assessment, the NPS intends to gather information necessary for the preparation of the EIS, and to obtain suggestions and information from other agencies and the public on the scope of issues to be addressed in the EIS. Comments and participation in this scoping process are invited.

Participation in the planning process will be encouraged and facilitated by various means. Notification of all public involvement opportunities will be announced in the local press and in NPS mailings. To begin the public process, the NPS will conduct a scoping meeting to explain the planning effort and to solicit opinion about issues to address in the GMP/EIS.

DATES: Two public scoping meetings will be held on Tuesday, March 12, 2002. An afternoon session will be held from 3:30 p.m. to 5:30 p.m.; and an evening session will be held from 7:00 p.m. to 9:00 p.m. Both meetings will be held at the Toledo-Lucas County Public Library, Maumee Branch, 501 River Road, Maumee, Ohio. More information about the meetings is available from the Site Manager, Metroparks of the Toledo Area, at the address and telephone number below.

ADDRESSES: Written comments and information concerning the scope of the EIS and other matters, or requests to be added to the project mailing list should be directed to: Public Information Officer, Metroparks of the Toledo Area, 5100 West Central Avenue, Toledo Ohio 43615; phone: 419-535-3057 extension 126.

FOR FURTHER INFORMATION CONTACT: Metroparks of the Toledo Area, Public Information Officer, at the address and telephone number above.

SUPPLEMENTARY INFORMATION: Public Law 106-164, signed into law on December 9, 1999, provides for the establishment of Fallen Timbers Battlefield and Fort Miamis National Historic Site as an affiliated unit of the National Park System. The purpose of the National Historic Site is to recognize, preserve, interpret and link Fort Miamis and the Fallen Timbers Battlefield. The Battle of Fallen Timbers played an important role in the history of the Nation's early Northwest frontier and was the culminating event which demonstrated the tenacity of the American people in their efforts to expand settlement westward through the struggle for dominance of the Old Northwest Territory.

In accordance with NPS Park Planning policy, the GMP will ensure the Historic Site has a clearly defined direction for resource preservation and visitor use. It will be developed in consultation with servicewide program managers, interested parties, and the general public. It will be based on an adequate analysis of existing and potential resource conditions and visitor experiences, environmental impacts, and costs of alternative courses of action.

The environmental review of the GMP/EIS for the Historic Site will be conducted in accordance with requirements of the NEPA (42 U.S.C. 4371 et seq.), NEPA regulations (40 CFR 1500-1508), other appropriate Federal regulations, and National Park Service procedures and policies for compliance with those regulations.

Dated: January 22, 2002.
David N. Given,
Acting Regional Director.

[FR Doc. 02-7252 Filed 3-25-02; 8:45 am]

BILLING CODE 4310-70-P